DEPARTMENT OF ENERGY

Federal Energy Regulatory Commission

Combined Notice of Filings #1

March 13, 2006.

Take notice that the Commission received the following electric rate filings

Docket Numbers: ER01-1305-011

Applicants: Westar Generating, Inc.

Description: Westar Generating, Inc submits corrections to two previously submitted informational filings and a refund report.

Filed Date: 03/07/2006.

Accession Number: 20060309-0018

Comment Date: 5 p.m. Eastern Time on Tuesday, March 28, 2006.

Docket Numbers: ER03-775-004; ER00-136-003

Applicants: FortisOntario, Inc; FortisUS Energy Corporation.

Description: FortisOntario Inc & FortisUs Energy Corp submit a response to the informal request for information received by FERC Staff re the acquisition by Fortis Inc of Princeton Light & Power Co Limited.

Filed Date: 03/07/2006.

Accession Number: 20060309-0038

Comment Date: 5 p.m. Eastern Time on Tuesday, March 28, 2006.

Docket Numbers: ER05-1475-004

Applicants: Midwest Independent Transmission System Operator, Inc.

Description: Midwest Independent Transmission System Operator Inc submits a revised Attachment X—Large Generator Interconnection Procedures and Large Generator Interconnection Agreement of its OATT and EMT.

Filed Date: 03/08/2006.

Accession Number: 20060310-0193

Comment Date: 5 p.m. Eastern Time on Wednesday, March 29, 2006.

Docket Numbers: ER06-189-001

Applicants: Electric Energy, Inc.

Description: Electric Energy, Inc submits an amended and restated copy of the Power Supply Agreement which incorporates all changes after September 1987 which remained in effect as of 1/1/03.

Filed Date: 03/08/2006.

Accession Number: 20060310-0188

Comment Date: 5 p.m. Eastern Time on Wednesday, March 29, 2006.

Docket Numbers: ER06-301-001

Applicants: Xcel Energy Services Inc.

Description: Xcel Energy Services, Inc on behalf of itself and the Xcel Energy Operating Companies responds to FERC's 2/6/06 letter re its Joint Operating Agreement.

Filed Date: 03/08/2006.

Accession Number: 20060310-0184

Comment Date: 5 p.m. Eastern Time on Wednesday, March 29, 2006.

Docket Numbers: ER06-306-001

Applicants: Pennsylvania Electric Company; Jersey Central Power & Light Company; Metropolitan Edison Company.

Description: Jersey Central Power & Light Co, Metropolitan Edison Co and Pennsylvania Electric Co submit a compliance filing pursuant to FERC's 2/6/06 Order.

Filed Date: 03/08/2006.

Accession Number: 20060310-0189

Comment Date: 5 p.m. Eastern Time on Wednesday, March 29, 2006.

Docket Numbers: ER06-486-001

Applicants: Central Illinois Public Service Company; Illinois Power Company; Union Electric Company.

Description: Ameren Services Co on behalf of Central Illinois Public Service Co et al submit revisions to the designation of the two modified Facility Use Agreements pursuant to FERC's 3/2/06 letter order.

Filed Date: 03/07/2006.

Accession Number: 20060309-0015

Comment Date: 5 p.m. Eastern Time on Tuesday, March 28, 2006.

Docket Numbers: ER06-515-001

Applicants: Mirant Peaker, LLC.

Description: Mirant Peaker, LLC amends the Notice of Cancellation of its FERC Electric Tariff, First Revised Volume 1.

Filed Date: 03/07/2006.

Accession Number: 20060309-0017

Comment Date: 5 p.m. Eastern Time on Friday, March 17, 2006.

Docket Numbers: ER06-700-000

Applicants: California Independent System Operator Corporation.

Description: California Independent System Operator Corp submits an amendment to their Simplified and Reorganized Tariff.

Filed Date: 03/07/2006.

Accession Number: 20060309-0032

Comment Date: 5 p.m. Eastern Time on Tuesday, March 28, 2006.

Docket Numbers: ER06-706-000

Applicants: Entergy Services, Inc.

Description: Entergy Services, Inc on behalf of Entergy Arkansas, Inc submits the 2006 Wholesale Formula Rate Update in accordance with the Power Coordination, Interchange and Transmission Service Agreements.

Filed Date: 03/08/2006.

Accession Number: 20060310-0192

Comment Date: 5 p.m. Eastern Time on Wednesday, March 29, 2006.

Docket Numbers: ER06-707-000

Applicants: Entergy Services, Inc.

Description: Entergy Services, Inc on behalf of Entergy Arkansas, Inc submits the 2006 Wholesale Formula Rate update.

Filed Date: 03/08/2006.

Accession Number: 20060310-0191

Comment Date: 5 p.m. Eastern Time on Wednesday, March 29, 2006.

Docket Numbers: ER06-708-000

Applicants: Midwest Independent Transmission System.

Description: Midwest Independent Transmission System Operator, Inc submits a Large Generator Interconnection Agreement with Northern States Power Co dba Xcel Energy-Generation Function et al.

Filed Date: 03/08/2006.

Accession Number: 20060310-0190

Comment Date: 5 p.m. Eastern Time on Wednesday, March 29, 2006.

Docket Numbers: ER94-1188-039; ER99-1623-008; EL05-99-003; ER98-4540-008; ER98-1279-010

Applicants: LG&E Energy Marketing Inc.; Kentucky Utilities Company; Louisville Gas & Electric Company; Western Kentucky Energy Corporation.

Description: LG&E Marketing Inc, Louisville Gas & Electric Co et al submit a compliance filing pursuant to FERC's 2/15/06 Letter Order.

Filed Date: 03/08/2006.

Accession Number: 20060310-0187

Comment Date: 5 p.m. Eastern Time on Wednesday, March 29, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-4032 Filed 3-20-06; 8:45 am]

BILLING CODE 6717-01-P